DEPARTMENT OF LABOR

Office of the Secretary

Submission for OMB review; comment request

January 29, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King on (202) 693-4129 or e-Mail: King-Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

*Evaluate whether the proposed collection of information is necessary for the proper performance of the functions of the agency, including whether the information will have practical utility;

*Evaluate the accuracy of the agency's estimate of the burden of the proposed collection of information, including the validity of the methodology and assumptions used;

*Enhance the quality, utility, and clarity of the information to be collected; and

*Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Refuse Piles and Impounding Structures, Recordkeeping.

Requirements—30 CFR 77.215(j); 77.215-2 thru 4; and 77.216-2 thru 5.

OMB Number: 1219-0015.

Affected Public: Business or other for-profit.

Frequency: On occasion; Weekly; and Annually.

Requirement | Number of respondents | Frequency | Total responses | Average response time (hours) | Estimated burden hours
77.215 New Refuse Piles | 50 | Annually | 50 | 16 | 800
Fire Extinguisher Plans | 1 | Annually | 1 | 4 | 4
Abandonment Plans | 25 | Annually | 25 | 8 | 200
Annual Certification (new) | 15 | Annually | 15 | 2 | 30
77.216 New Impoundments | 50 | Annually | 50 | 1,300 | 65,000
Revisions to Impoundments | 100 | Annually | 100 | 5 | 500
Annual Certification (existing) | 100 | Annually | 100 | 2 | 200
Inspections w/monitoring Instruments | 285 | On Occasion/Weekly | 4,845 | 3 | 14,535
Inspections without Monitoring Instruments | 426 | On Occasion | 7,242 | 2 | 14,484
Totals: |  |  | 12,428 |  | 95,753

Total Annualized Capital/Startup Costs: $0.

Total Annual Costs (operating/maintaining systems or purchasing services): $0.

Description: 30 CFR 77.215(j); 77.215-2 thru 4; and 77.216-2 thru 5 requires coal mine operators to submit to MSHA, for approval, an annual status report and certification on impoundments and hazardous refuse piles; and to keep records of the results of weekly examinations and instrumentation monitoring of impoundments.

Type of Review: Extension of a currently approved collection.

Agency: Mine Safety and Health Administration (MSHA).

Title: Records of Test and Examinations of Personnel Hoisting Equipment.

OMB Number: 1219-0034.

Affected Public: Business or other for-profit.

Type of Response: Recordkeeping and Reporting.

Frequency: On occasion, Weekly, Daily, and Annually.

Requirement | Total respondents | Annual responses | Average response time (hours) | Estimated burden hours
56/57.19023—M/NM—Daily Examination | 86 | 22,360 | .033 | 7,379
56/57.19121—M/NM—Weekly Examinations | 86 | 4,472 | 0.1667 | 745
56/57.19129—M/NM—Bi-weekly Examinations | 86 | 2,236 | .075 | 1,677
56/57.19131—M/NM—Daily Recordkeeping | 86 | 22,360 | 0.08 | 1,789
56/57.19132—M/NM—weekly Recordkeeping | 86 | 4,472 | 0.08 | 358
56/57.19133—M/NM—Bi-weekly Recordkeeping | 86 | 2,236 | 0.08 | 179
56/57.19022-23—M/NM—Initial & Semi-Annual Measurement | 86 | 172 | 1.00 | 172
56/57.19022-23—M/NM—Recordkeeping | 86 | 172 | 0.15 | 26
Metal/Nonmetal (M/NM) Totals: |  | 58,480 | 4.75 | 12,325
75.1404/1433/77.1404; 77.1432; 75.1433
Coal—Daily Examinations | 174 | 135,720 | 0.33 | 44,788
Coal—Bi-weekly Examinations | 174 | 9,048 | 0.33 | 2,986
Daily Recordkeeping | 174 | 45,240 | 0.08 | 3,619
Bi-weekly Recordkeeping | 174 | 4,524 | 0.08 | 362
Initial Wire Rope Measurement | 174 | 17,383 | 4.00 | 69,532
Semi-annual Wire Rope Measurement | 174 | 626 | 1.00 | 626
Initial Recordkeeping | 174 | 209 | 0.08 | 17
Semi-annual Recordkeeping | 174 | 626 | 0.08 | 50
75.1400(c) 75.1400-2
Tests of Safety Catches | 174 | 2,088 | 0.75 | 1,566
Recordkeeping | 174 | 2,088 | 0.08 | 167
Coal Totals: |  | 217,552 | 1.76 | 123,713
Grand Totals: |  | 276,032 |  | 136,038

Total Annualized Capital/Startup Costs: $0.

Total Annual Costs (operating/maintaining systems or purchasing services): $208,800.

Description: Coal and metal and nonmetal mine operators are required to test, inspect, and maintain the personnel hoisting system to ensure that the system remains safe to operate. Deficiencies found, or inspections conducted, are to be recorded, corrected, and a record maintained for one year.

Type of Review: Extension of a currently approved collection.

Agency: Mine Safety and Health Administration (MSHA).

Title: Hoist Operators' Physical Fitness.

OMB Number: 1219-0049.

Affected Public: Business or other for-profit.

Type of Response: Recordkeeping.

Frequency: Annually.

Number of Respondents: 47.

Number of Annual Responses: 235.

Estimated Time Per Response: 2 minutes.

Total Burden Hours: 8.

Total Annualized Capital/Startup Costs: $0.

Total Annual Costs (operating/maintaining systems or purchasing services): $72,380.

Description: 30 CFR 56/57.19057 requires mine operators to furnish annual physicals and certification of hoist operators' fitness for duty. The information is used by mine operators and MSHA ensure that hoist operators are physically capable of performing their functions.

Ira L. Mills,
Departmental Clearance Officer.

[FR Doc. 02-3112 Filed 2-7-02; 8:45 am]

BILLING CODE 4510-43-M